DEPARTMENT OF ENERGY

Federal Energy Regulatory Commission

Combined Notice of Filings #2

Take notice that the Commission received the following electric corporate filings:

Docket Numbers: EC13-111-000.

Applicants: CPV Shore, LLC.

Description: Application Under FPA Section 203 of CPV Shore, LLC (ArcLight).

Filed Date: 5/31/13.

Accession Number: 20130531-5210.

Comments Due: 5 p.m. ET 6/21/13.

Docket Numbers: EC13-112-000.

Applicants: CPV Shore, LLC.

Description: Application Under FPA Section 203 of CPV Shore, LLC (Toyota) With Privileged Exh. I.

Filed Date: 5/31/13.

Accession Number: 20130531-5250.

Comments Due: 5 p.m. ET 6/21/13.

Take notice that the Commission received the following electric rate filings:

Docket Numbers: ER10-2984-010.

Applicants: Merrill Lynch Commodities, Inc.

Description: Notice of Non-Material Change in Status of Merrill Lynch Commodities, Inc.

Filed Date: 5/31/13.

Accession Number: 20130531-5170.

Comments Due: 5 p.m. ET 6/21/13.

Docket Numbers: ER13-1052-001.

Applicants: Midcontinent Independent System Operator, Inc., PJM Interconnection, L.L.C.

Description: Midcontinent Independent System Operator, Inc. Compliance filing per 5/6/2013 Order in ER13-1052 to be effective 3/8/2013.

Filed Date: 5/31/13.

Accession Number: 20130531-5274.

Comments Due: 5 p.m. ET 6/21/13.

Docket Numbers: ER13-1425-001.

Applicants: Massachusetts Electric Company.

Description: Amendment to Correct Filing of Interconnection Agreement with City of Brockton to be effective 7/9/2013.

Filed Date: 5/31/13.

Accession Number: 20130531-5230.

Comments Due: 5 p.m. ET 6/21/13.

Docket Numbers: ER13-1602-000.

Applicants: Southern California Edison Company.

Description: Letter Agreement with Solar Star CA XIX for Avenue Solar Project to be effective 5/23/2013.

Filed Date: 5/31/13.

Accession Number: 20130531-5188.

Comments Due: 5 p.m. ET 6/21/13.

Docket Numbers: ER13-1603-000.

Applicants: Southern California Edison Company.

Description: Letter Agreement with Solar Star CA XX for Kingbird Solar Project to be effective 5/23/2013.

Filed Date: 5/31/13.

Accession Number: 20130531-5203.

Comments Due: 5 p.m. ET 6/21/13.

Docket Numbers: ER13-1604-000.

Applicants: Northern States Power Company, a Minnesota corporation.

Description: 2013-5-31-MDEU_Intercon_NOC Concur-317 to be effective 12/31/2012.

Filed Date: 5/31/13.

Accession Number: 20130531-5206.

Comments Due: 5 p.m. ET 6/21/13.

Docket Numbers: ER13-1605-000.

Applicants: NV Energy, Inc.

Description: NV Energy, Inc. Transmission Rate Filing to be effective 1/1/2014.

Filed Date: 5/31/13.

Accession Number: 20130531-5260.

Comments Due: 5 p.m. ET 6/21/13.

Docket Numbers: ER13-1606-000.

Applicants: Southwestern Electric Power Company.

Description: PBOP and PEB costs for formula rates of Southwestern Electric Power Company.

Filed Date: 5/31/13.

Accession Number: 20130531-5264.

Comments Due: 5 p.m. ET 6/21/13.

Docket Numbers: ER13-1607-000.

Applicants: NV Energy, Inc.

Description: NV Energy, Inc. OATT to be effective 1/1/2014.

Filed Date: 5/31/13.

Accession Number: 20130531-5305.

Comments Due: 5 p.m. ET 6/21/13.

Docket Numbers: ER13-1608-000.

Applicants: Entergy Texas, Inc.

Description: Entergy Texas, Inc Revised ETI-ETEC Agreements to be effective 6/1/2013.

Filed Date: 5/31/13.

Accession Number: 20130531-5313.

Comments Due: 5 p.m. ET 6/21/13.

Docket Numbers: ER13-1609-000.

Applicants: Commonwealth Edison Company, Commonwealth Edison Company of Indiana, PJM Interconnection, L.L.C.

Description: Commonwealth Edison Company revision to OATT Att H-13 removing Distribution Loss Factor Charge to be effective 6/1/2013.

Filed Date: 5/31/13.

Accession Number: 20130531-5323.

Comments Due: 5 p.m. ET 6/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2013.
Nathaniel J. Davis, Sr.,
Deputy Secretary.

[FR Doc. 2013-13587 Filed 6-6-13; 8:45 am]

BILLING CODE 6717-01-P